DEPARTMENT OF AGRICULTURE

Animal and Plant Health Inspection Service

9 CFR Part 91

[Docket No. 99-102-2]

Ports Designated for Exportation of Horses; Dayton, OH

AGENCY: Animal and Plant Health Inspection Service, USDA.

ACTION: Direct final rule; confirmation of effective date.

SUMMARY: On February 17, 2000, the Animal and Plant Health Inspection Service published a direct final rule. (See 65 FR 8013-8014, Docket No. 99-102-1.) The direct final rule notified the public of our intentions to amend the “Inspection and Handling of Livestock for Exportation” regulations by adding Dayton International Airport in Dayton, OH, as a port of embarkation and Instone Air Services, Inc., as the export inspection facility for equines for that port. We did not receive any written adverse comments or written notice of intent to submit adverse comments in response to the direct final rule.

EFFECTIVE DATE: The effective date of the direct final rule is confirmed as: April 17, 2000.

FOR FURTHER INFORMATION CONTACT: Dr. Morley Cook, Senior Staff Veterinarian, National Center for Import and Export, VS, APHIS, 4700 River Road Unit 39, Riverdale, MD 20737-1231; (301) 734-6479.

Authority: 21 U.S.C. 105, 112, 113, 114a, 120, 121, 134b, 134f, 136, 136a, 612, 613, 614, and 618; 46 U.S.C. 466a, and 466b; 49 U.S.C. 1509(d); 7 CFR 2.22, 2.80, and 371.2(d).

Done in Washington, DC, this 5th day of April 2000.
Bobby R. Acord,
Acting Administrator, Animal and Plant Health Inspection Service.

[FR Doc. 00-8936 Filed 4-10-00; 8:45 am]

BILLING CODE 3410-34-U